SMALL BUSINESS ADMINISTRATION

[Disaster Declaration #16876 and #16877; Texas Disaster Number TX-00591]

Presidential Declaration Amendment of a Major Disaster for the State of Texas

AGENCY: U.S. Small Business Administration.

ACTION: Amendment 3.

SUMMARY: This is an amendment of the Presidential declaration of a major disaster for the State of Texas (FEMA-4586-DR), dated 02/19/2021. Incident: Severe Winter Storms. Incident Period: 02/11/2021 through 02/21/2021.

DATES: Issued on 03/04/2021.

Physical Loan Application Deadline Date: 04/20/2021.

Economic Injury (EIDL) Loan Application Deadline Date: 11/19/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Texas, dated 02/19/2021, is hereby amended to establish the incident period for this disaster as beginning 02/11/2021 through 02/21/2021.

All other information in the original declaration remains unchanged.

(Catalog of Federal Domestic Assistance Number 59008)

Cynthia Pitts,
Acting Associate Administrator for Disaster Assistance.

[FR Doc. 2021-05072 Filed 3-10-21; 8:45 am]

BILLING CODE 8026-03-P